FEDERAL LABOR RELATIONS AUTHORITY

5 CFR Chapter XIV

Changes to Current Addresses and Geographic Jurisdictions

AGENCY: Federal Labor Relations Authority.

ACTION: Final rule.

SUMMARY: This document amends regulations listing the current addresses and describing the geographic jurisdictions of the Federal Labor Relations Authority, General Counsel of the Federal Labor Relations Authority, and the Federal Service Impasses Panel. These changes reflect the closing of the Boston Regional Office and changes to the geographical jurisdictions of the Washington, DC and Chicago Regional Directors.

DATES: Effective November 16, 2018.

FOR FURTHER INFORMATION CONTACT: William Tosick, Executive Director, Federal Labor Relations Authority, 1400 K St. NW, Washington, DC 20424, (202) 218-7791, wtosick@flra.gov.

SUPPLEMENTARY INFORMATION: Effective January 28, 1980, the Authority and the General Counsel published, at 45 FR 3482, January 17, 1980, final rules and regulations to govern the processing of cases by the Authority and the General Counsel under chapter 71 of title 5 of the United States Code. These rules and regulations are required by title VII of the Civil Service Reform Act of 1978 and are set forth in 5 CFR chapter XIV (2018).

After an examination of budgets, caseloads, rental costs, operating costs, and staffing, the Authority is closing its Boston Regional Office and reassigning its jurisdiction to the Washington, DC and Chicago Regional Directors, effective November 16, 2018. The Authority expects no adverse effect on the quality or efficiency of casehandling as a result of the Boston Regional Office closure.

This amendment updates paragraphs (d) and (f) of Appendix A to 5 CFR chapter XIV to reflect the new organizational structure by removing the Boston Regional Office from the list of current addresses, telephone numbers, and fax numbers of the Authority's Regional Offices and by revising the geographical jurisdictions of the Federal Labor Relations Authority. As this rule pertains to agency organization, procedure, or practice, it is exempt from prior notice and public comment pursuant to 5 U.S.C. 553(b)(A). For this same reason, pursuant to 5 U.S.C. 553(d)(3), the Authority finds that good cause exists for not providing a more delayed effective date. This type of action is also exempt from review under Executive Orders 12866 (58 FR 51735, October 4, 1993), 13563 (76 FR 3821, January 21, 2011), and 13771 (82 FR 9339, February 3, 2017).

For additional information regarding case handling procedures following the Boston Regional Office closure, please go to www.flra.gov.

The opinion of the Authority's majority and the dissenting opinion of Member DuBester with respect to the closure of the Federal Labor Relations Authority's Boston and Dallas Regional Offices are published at Appendix A, 83 FR 46349, 46350-46368, September 13, 2018.

List of Subjects in 5 CFR Chapter XIV

Administrative practice and procedure.

Chapter XIV—Federal Labor Relations Authority

For the reasons set forth in the preamble and under the authority of 5 U.S.C. 7134, the Authority amends 5 CFR chapter XIV as follows:

1. Appendix A to 5 CFR chapter XIV is amended by removing paragraph (d)(1), redesignating paragraphs (d)(2) through (d)(6) as (d)(1) through (d)(5), and revising paragraph (f) to read as follows:

Appendix A to 5 CFR Chapter XIV—Current Addresses and Geographic Jurisdictions

* * * * *

(f) The geographic jurisdictions of the Regional Directors of the Federal Labor Relations Authority are as follows:

State or other locality | Regional office
Alabama | Atlanta.
Alaska | San Francisco.
Arizona | Denver.
Arkansas | Atlanta.
California | San Francisco.
Colorado | Denver.
Connecticut | Washington, DC.
Delaware | Washington, DC.
District of Columbia | Washington, DC.
Florida | Atlanta.
Georgia | Atlanta.
Hawaii and all land and water areas west of the continents of North and South America (except coastal islands) to long. 90 degrees East | San Francisco.
Idaho | San Francisco.
Illinois | Chicago.
Indiana | Chicago.
Iowa | Chicago.
Kansas | Denver.
Kentucky | Chicago.
Louisiana | Atlanta.
Maine | Washington, DC.
Maryland | Washington, DC.
Massachusetts | Washington, DC.
Michigan | Chicago.
Minnesota | Chicago.
Mississippi | Atlanta.
Missouri | Chicago.
Montana | Denver.
Nebraska | Denver.
Nevada | San Francisco.
New Hampshire | Washington, DC.
New Jersey | Washington, DC.
New Mexico | Denver.
New York | Washington, DC.
North Carolina | Atlanta.
North Dakota | Chicago.
Ohio | Chicago.
Oklahoma | Denver.
Oregon | San Francisco.
Pennsylvania | Washington, DC.
Puerto Rico and coastal islands | Chicago.
Rhode Island | Washington, DC.
South Carolina | Atlanta.
South Dakota | Chicago.
Tennessee | Chicago.
Texas | Denver.
Utah | Denver.
Vermont | Washington, DC.
Virginia | Washington, DC.
Washington | San Francisco.
West Virginia | Washington, DC.
Wisconsin | Chicago.
Wyoming | Denver.
Virgin Islands | Atlanta.
Panama/limited FLRA jurisdiction | Atlanta.
All land and water areas east of the continents of North and South America to long. 90 degrees East, except the Virgin Islands, Panama/limited FLRA jurisdiction, Puerto Rico and coastal islands | Washington, DC.

Authority: 5 U.S.C. 7134.

Dated: October 29, 2018.
For the Federal Labor Relations Authority.
William Tosick,
Executive Director.

[FR Doc. 2018-23897 Filed 10-31-18; 8:45 am]

BILLING CODE 6727-01-P